DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before October 15, 2024.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on September 4, 2024.
Donald P. Burger,
Chief, General Approvals and Permits Branch.

Special Permits Data
Application No. | Applicant | Regulation(s) affected | Nature of the special permits thereof
21825-N | Wisconsin Central Ltd | 174.85(c), 174.85(d) | To authorize, under certain circumstances, the movement of freight trains utilizing a “light locomotive consist” of not more than three locomotives attached to the rear end of a stalled train without positioning buffer cars separating these locomotives from the rear placarded hazardous materials cars in the train. (mode 2).
21831-N | Boyd Lancaster, Inc | 172.101(j), 173.301(f), 173.302a(a)(1), 173.304a(a)(2), 173.306(e) | To authorize the transportation in commerce of non-DOT specification containers (heat pipes) containing certain Class 2 materials for use in specialty cooling applications such as satellites and military aircraft. (modes 1, 2, 4).
21833-N | Cyl-Tec, Inc | 172.203(a), 172.301(c), 180.211(c)(2)(i) | To authorize the repair of certain DOT 4L cylinders without requiring pressure testing. (modes 1, 2, 3, 4, 5).
21834-N | Umbra Lab, Inc | 173.301(f)(1) | To authorize the transportation in commerce of a spacecraft (satellite) containing compressed xenon in DOT specification cylinders that are not equipped with one or more pressure relief devices. (mode 1).
21837-N | Reckitt Benckiser LLC | 172.200(a), 172.301(a), 172.301(a)(3)(i), 172.315(a)(2), 172.315(b), 172.315(b)(1), 172.315(b)(2), 172.315(b)(3) | To authorize the shipments of finished pharmaceutical products (medicines) that are manufactured for personal or household consumption. (modes 1, 2, 4, 5).
21840-N | Lunar Energy, Inc | 172.101(j) | To authorize the transportation in commerce of lithium batteries exceeding 35 kg by cargo-only aircraft. (mode 4).
21843-N | DDP Specialty Electronic Materials US, LLC | 172.203(a), 172.301(c), 173.306(a)(3)(v)(A) | To authorize the transportation in commerce of DOT 2Q specification inner containers where the lot size for the alternative hot water bath test is increased to 10,000 cylinders. (modes 1, 3, 4, 5).
21847-N | ispace, Inc | 173.185(a)(1), 173.185(e)(7) | To authorize the transportation in commerce of prototype and low production lithium batteries contained in equipment (spacecraft) and battery powered vehicles that have not passed the UN-required tests via cargo-only aircraft in a specially designed transport packaging for use in space applications. (modes 1, 4).
21851-N | Peninsula Terminal Company | 174.85(d) | To authorize the transportation in commerce of UN1830, sulfuric acid by rail with a placarded car next to the locomotive during “shoving movements.” (mode 2).
21852-N | National Aeronautics and Space Administration | 173.226 | To authorize the transportation in commerce of certain Division 6.1 materials in non-specification packaging. (mode 1).
21853-N | Riegel USA Inc | 172.301 | To authorize the transportation in commerce of butane contained in 2P inner receptacles when classified as “UN2037 Gas cartridges, (flammable) without a release device, non-refillable”. (modes 1, 2, 3).
21854-N | Electronic Fluorocarbons, LLC | 173.304(b) | To authorize the transportation in commerce of certain liquified gases in DOT 3AA specification cylinders where the liquid portion completely fills the package. (modes 1, 2, 3, 4).

[FR Doc. 2024-20617 Filed 9-11-24; 8:45 am]

BILLING CODE 4910-60-P